DEPARTMENT OF HOUSING AND URBAN DEVELOPMENT

24 CFR Part 100

[Docket No. FR-6138-N-02]

Fair Housing Act Design and Construction Requirements: Adoption of Additional Safe Harbors: Extension of Public Comment Period

AGENCY: Office of the Assistant Secretary for Fair Housing and Equal Opportunity, HUD.

ACTION: Proposed rule; extension of public comment period.

SUMMARY: On January 15, 2020, HUD published a proposed rule in the Federal Register inviting public comment on amendments to HUD's Fair Housing Act design and construction regulations. The January 15, 2020, proposed rule set March 16, 2020, as the comment due date. Because the proposed rule referred to documents that were not readily available, HUD is extending the public comment period for an additional 30-day period and making the referenced documents available through its website as described in this document.

DATES: The comment period for the proposed rule published on January 15, 2020, (85 FR 2354), is extended to April 13, 2020.

ADDRESSES: Interested persons are invited to submit comments regarding this proposed rule to the Office of General Counsel, Rules Docket Clerk, Department of Housing and Urban Development, 451 Seventh Street SW, Room 10276, Washington, DC 20410-0500. Communications should refer to the above docket number and title.

Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

No Facsimile Comments. Facsimile (FAX) comments are not acceptable. In all cases, communications must refer to the docket number and title.

Public Inspection of Public Comments. All comments and communications submitted to HUD will be available, without charge, for public inspection and copying between 8 a.m. and 5 p.m. weekdays at the above address. Due to security measures at the HUD Headquarters building, an advance appointment to review the public comments must be scheduled by calling the Regulations Division at (202) 708-3055 (this is not a toll-free number). Individuals who are deaf, hard of hearing, or have speech impairments may access this number through TTY by calling the toll-free Federal Information Relay Service at (800) 877-8339. Copies of all comments submitted are available for inspection and downloading at www.regulations.gov.

FOR FURTHER INFORMATION CONTACT: Lynn Grosso, Director, Office of Enforcement, Office of Fair Housing and Equal Opportunity, Department of Housing and Urban Development, 451 Seventh Street SW, Washington, DC 20410-2000; telephone number (202) 708-2333 (this is not a toll-free number). Hearing- or speech- impaired individuals may access this number via TTY by calling the toll-free Federal Information Relay Service at (800) 877-8339.

SUPPLEMENTARY INFORMATION: On January 15, 2020, HUD published a proposed rule in the Federal Register inviting public comment on amendments to HUD's Fair Housing Act design and construction regulations, which incorporated by reference the 2009 edition of International Code Council (ICC) Accessible and Usable Building and Facilities (ICC A117.1-2009) standard, as a safe harbor. The proposed rule would also designate the 2009, 2012, 2015 and 2018 editions of the IBC as safe harbors under the Fair Housing Act. Interested readers should refer to the supplementary information of the January 15, 2020 proposed rule for additional information.

HUD is extending the public comment deadline to provide the time needed for relevant stakeholders and the general public to submit comments regarding the proposed amendments. Specifically, HUD has determined that additional time to submit public comment is necessary to permit the public to review certain matrices provided by the ICC that were not readily available. The Department had requested, and ICC provided, a side-by-side matrix comparing the relevant 2006 provisions of the IBC, which HUD had previously reviewed and declared as a safe harbor, with the 2009, 2012, 2015 and 2018 provisions in the IBC and related code documents. In addition, ICC provided a similar matrix for ICC/ANSI A117.1-2003 and ICC A117.1-2009, along with copies of ICC A117.1-2009 and related documents. Links to the matrices are posted and available at https://www.hud.gov/program_offices/fair_housing_equal_opp/safe_harbor_rule_making.

Therefore, HUD is announcing through this document that it is extending the public comment period for an additional 30-day period.

Dated: March 9, 2020.
Anna María Farías,
Assistant Secretary for Fair Housing and Equal Opportunity.

[FR Doc. 2020-05175 Filed 3-12-20; 8:45 am]

BILLING CODE 4210-67-P